ENVIRONMENTAL PROTECTION AGENCY

[FRL-9524-1]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or email at westlund.rick@epa.gov and please refer to the appropriate EPA Information Collection Request (ICR) Number.

SUPPLEMENTARY INFORMATION:

OMB Responses To Agency Clearance Requests

OMB Approvals

EPA ICR Number 1587.12; State Operating Permit Regulations; 40 CFR part 70; was approved on 10/03/2012; OMB Number 2060-0243; expires on 10/31/2015; Approved with change.

EPA ICR Number 0270.45; Public Water System Supervision Program (Renewal); 40 CFR parts 141 and 142; was approved on 10/03/2012; OMB Number 2040-0090; expires on 10/31/2015; Approved without change.

EPA ICR Number 2164.04; Emission Guidelines for Existing Other Solid Waste Incineration (OSWI) Units; 40 CFR part 60 subparts A and FFFF; was approved on 10/03/2012; OMB Number 2060-0562; expires on 10/31/2015; Approved without change.

EPA ICR Number 2196.04; NSPS for Stationary Compression Ignition Internal Combustion Engines; 40 CFR part 60 subparts A and IIII; was approved on 10/03/2012; OMB Number 2060-0590; expires on 10/31/2015; Approved without change.

EPA ICR Number 2461.01; Diesel Emissions Reduction Act (DERA) Rebate Program (New Collection); was approved on 10/25/2012; OMB Number 2060-0686; expires on 10/31/2015; Approved with change.

EPA ICR Number 1617.07; Servicing of Motor Vehicle Air Conditioners (Renewal); 40 CFR part 82 subpart B; was approved on 10/26/2012; OMB Number 2060-0247; expires on 10/31/2015; Approved without change.

EPA ICR Number 2104.04; Brownfields Program—Accomplishment Reporting (Renewal); 40 CFR parts 30 and 31; was approved on 10/02/2012; OMB Number 2050-0192; expires on 10/31/2015; Approved without change.

EPA ICR Number 2003.05; NESHAP for Integrated Iron and Steel Manufacturing (Renewal); 40 CFR part 63 subparts A and FFFFF; was approved on 10/02/2012; OMB Number 2060-0517; expires on 10/31/2015; Approved without change.

John Moses,
Director, Collections Strategies Division.

[FR Doc. 2012-27158 Filed 11-6-12; 8:45 am]

BILLING CODE P